DEPARTMENT OF TRANSPORTATION

Federal Aviation Administration

14 CFR Part 39

[Docket No. FAA-2007-0053; Directorate Identifier 98-ANE-54-AD]

RIN 2120-AA64

Airworthiness Directives; General Electric Company CF6-50, -80A1/A3, and -80C2A Series Turbofan Engines

AGENCY: Federal Aviation Administration (FAA), Department of Transportation (DOT).

ACTION: Notice of proposed rulemaking (NPRM).

SUMMARY: The FAA proposes to supersede an existing airworthiness directive (AD) for General Electric Company (GE) CF6-50, -80A1/A3, and -80C2A series turbofan engines, installed on Airbus A300 and A310 series airplanes. That AD currently requires initial and repetitive inspections and checks of the thrust reverser actuation systems. This proposed AD would require revised inspection thresholds and intervals, and would require the same actions and additional inspections of the thrust reverser actuation system locking features. This proposed AD results from refined safety analyses performed on the thrust reverser systems by GE and Airbus. We are proposing this AD to prevent inadvertent in-flight thrust reverser deployment, which can result in loss of control of the airplane.

DATES: We must receive any comments on this proposed AD by December 24, 2007.

ADDRESSES: Use one of the following addresses to comment on this proposed AD.

• Federal eRulemaking Portal: Go to http://www.regulations.gov and follow the instructions for sending your comments electronically.

• Mail: Docket Management Facility: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Middle River Aircraft Systems, Mail Point 46, 103 Chesapeake Park Plaza, Baltimore, MD, 21220, attn: Warranty Support, telephone: (410) 682-0094, fax: (410) 682-0100 for the service information identified in this proposed AD.

FOR FURTHER INFORMATION CONTACT: Robert Green, Aerospace Engineer, Engine Certification Office, FAA, Engine and Propeller Directorate, 12 New England Executive Park, Burlington, MA 01803; e-mail: Robert.green@faa.gov; telephone (781) 238-7754; fax (781) 238-7199.

SUPPLEMENTARY INFORMATION:

Comments Invited

We invite you to send any written relevant data, views, or arguments about this proposed AD. Send your comments to an address listed under the ADDRESSES section. Include “Docket No. FAA-2007-0053; Directorate Identifier 98-ANE-54-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 99-18-20, Amendment 39-11286 (64 FR 48286, September 3, 1999). That AD requires initial and repetitive inspections and checks of the thrust reverser actuation systems, and allows extended repetitive inspection intervals if an optional double p-seal configuration is installed. That AD was the result of a report of a higher than anticipated center drive unit cone brake failure rate, which reduces the overall thrust reverser system protection against inadvertent deployment. That condition, if not corrected, could result in inadvertent in-flight thrust reverser deployment, which can result in loss of control of the airplane.

Actions Since AD 99-18-20 Was Issued

Since AD 99-18-20 was issued, refined safety analyses performed on the thrust reverser systems installed on GE CF6-50, -80A1/A3, and -80C2A series turbofan engines were completed by GE and Airbus.

Relevant Service Information

We have reviewed and approved the technical contents of Middle River Aircraft Systems (MRAS) Alert Service Bulletin (ASB) No. CF6-50 S/B 78A3001, Revision 4, dated August 30, 2007, ASB No. CF6-80A1/A3 S/B 78A1002, Revision 5, dated July 19, 2007, and ASB No. CF6-80C2A1/A2/A3/A5/A8/A5F S/B 78A1015, Revision 7, dated August 30, 2007. These ASBs describe procedures for performing initial and repetitive thrust reverser system inspections and checks.

FAA's Determination and Requirements of the Proposed AD

We have evaluated all pertinent information and identified an unsafe condition that is likely to exist or develop on other products of this same type design. For that reason, we are proposing this AD, which would require revised inspection thresholds and intervals, and would require inspections of the thrust reverser actuation system locking features. The proposed AD would require that you do these actions using the relevant service information described previously.

Costs of Compliance

We estimate that this proposed AD would affect 206 engines installed on airplanes of U.S. registry. We also estimate that it would take about one work-hour per engine to perform the proposed additional inspection, and that the average labor rate is $80 per work-hour. Based on these figures, we estimate the total additional cost of the proposed AD for one inspection of the U.S. fleet, to be $28,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Docket Number Change

We are transferring the docket for this proposed AD to the Federal Docket Management System (FDMS) as part of our on-going docket management consolidation efforts. The new Docket No. is FAA-2007-0053. The old Docket No. became the Directorate Identifier, which is 98-ANE-54-AD.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11286 (64 FR 48286, September 3, 1999) and by adding a new airworthiness directive to read as follows:

General Electric Company: Docket No. FAA-2007-0053; Directorate Identifier 98-ANE-54-AD.

Comments Due Date

(a) The Federal Aviation Administration (FAA) must receive comments on this airworthiness directive (AD) action by December 24, 2007.

Affected ADs

(b) This AD supersedes AD 99-18-20, Amendment 39-11286.

Applicability

(c) This AD applies to General Electric Company (GE) CF6-50, -80A1/A3, and -80C2A series turbofan engines. These engines are installed on Airbus A300 and A310 series airplanes.

Unsafe Condition

(d) This AD results from refined safety analyses performed on the thrust reverser systems by GE and Airbus. We are issuing this AD to prevent inadvertent in-flight thrust reverser deployment, which can result in loss of control of the airplane.

Compliance

(e) You are responsible for having the actions required by this AD performed within the compliance times specified unless the actions have already been done.

Initial Inspection for CF6-50 Series Turbofan Engines

(f) For CF6-50 series turbofan engines, perform initial thrust reverser inspections using Section 2, Accomplishment Instructions, of Middle River Aircraft Systems (MRAS) Alert Service Bulletin (ASB) No. CF6-50 S/B 78A-3001, Revision 4, dated August 30, 2007, as follows:

(1) On Airbus A300 series airplanes with a Three Light Reverser Indication Circuit configuration, and without thrust reverser actuation system (TRAS) locks installed, perform the initial inspections and checks within 1,500 hours time-in-service (TIS) after the effective date of this AD.

(2) On Airbus A300 series airplanes with a Three Light Reverser Indication Circuit configuration, and with TRAS locks installed, perform the initial inspections and checks within 7,000 hours TIS after the effective date of this AD.

(3) On Airbus A300 series airplanes with a Two Light Reverser Indication Circuit configuration, and without TRAS locks installed, perform the initial inspections and checks within 1,500 hours TIS after the effective date of this AD.

(4) On Airbus A300 series airplanes with a Two Light Reverser Indication Circuit configuration, and with TRAS locks installed, perform the initial inspections and checks within 7,000 hours TIS after the effective date of this AD.

Repetitive Inspections for CF6-50 Series Turbofan Engines

(g) For CF6-50 series turbofan engines, perform repetitive thrust reverser inspections using Section 2, Accomplishment Instructions, of MRAS ASB No. CF6-50 S/B 78A-3001, Revision 4, dated August 30, 2007, as follows:

(1) On Airbus A300 series airplanes with a Three Light Reverser Indication Circuit configuration, and without TRAS locks installed, perform repetitive inspections and checks at the following:

(i) Within every 2,500 hours time-since-last-inspection (TSLI), perform paragraph 2.D., Translating Cowl Air Seal, Dagmar Fairing and Aft Frame Inspection; and paragraph 2.I., Fan Reverser Operational Check.

(ii) Within every 6,000 hours TSLI, perform paragraph 2.C., Pneumatic Drive Motor (PDM) Disc Brake Holding Torque Check; paragraph 2.E., Feedback Rod to Yoke Alignment Check and Inspection of Feedback Yoke and Feedback Rod; paragraph 2.F., Translating Cowl Auto Re-Stow Function Check; and paragraph 2.I., Fan Reverser Operational Check.

(2) Within every 7,000 hours TSLI on Airbus A300 series airplanes with a Three Light Reverser Indication Circuit configuration, and with TRAS locks installed, perform repetitive inspections and checks.

(3) On Airbus A300 series airplanes with a Two Light Reverser Indication Circuit configuration, and without TRAS locks installed, perform repetitive inspections and checks at the following:

(i) Within every 2,500 hours TSLI, perform paragraph 2.D., Translating Cowl Air Seal, Dagmar Fairing and Aft Frame Inspection; and paragraph 2.I., Fan Reverser Operational Check.

(ii) Within every 6,000 hours TSLI, perform paragraph 2.C., Pneumatic Drive Motor (PDM) Disc Brake Holding Torque Check; paragraph 2.E., Feedback Rod to Yoke Alignment Check and Inspection of Feedback Yoke and Feedback Rod; paragraph 2.G., Translating Cowl Auto Re-Stow Function Check; paragraph 2.H., Over Pressure Shutoff Valve (OPSOV) Indication Check; and paragraph 2.I., Fan Reverser Operational Check.

(4) On Airbus A300 series airplanes with a Two Light Reverser Indication Circuit configuration, and with TRAS locks installed, perform repetitive inspections and checks within every 7,000 hours TSLI.

Initial and Repetitive Inspections for CF6-80A1/A3 Series Turbofan Engines

(h) For CF6-80A1/A3 series turbofan engines installed on Airbus A310-200 airplanes, perform initial and repetitive thrust reverser inspections using Section 2, Accomplishment Instructions, of MRAS ASB No. CF6-80A1/A3 S/B 78A-1002, Revision 5, dated July 19, 2007, at the following:

(1) For initial inspection, within 1,500 hours TIS after the effective date of this AD.

(2) For repetitive inspections, within every 7,000 hours TSLI.

Initial Inspection for CF6-80C2A Series Turbofan Engines

(i) For CF6-80C2A series turbofan engines, perform initial thrust reverser inspections using Section 2, Accomplishment Instructions, of MRAS ASB No. CF6-80C2A1/A2/A3/A5/A8/A5F S/B 78A1015, Revision 7, dated August 30, 2007, at the following:

(1) On Airbus A300 and A310 series airplanes with left-hand and right-hand reverser halves that do not have the double/backup P-seal introduced by MRAS SB No. CF6-80C2 S/B 78A1005, and that do not have locking actuator assemblies (LAAs) installed, within 600 hours TIS after the effective date of this AD.

(2) On Airbus A300 and A310 series airplanes with left-hand and right-hand reverser halves that have the double/backup P-seal introduced by MRAS SB No. CF6-80C2 S/B 78A1005, or that have LAAs installed, within 7,000 hours TIS after the effective date of this AD.

Directional Pilot Valve (DPV) Pressure Switch Check on Airbus Airplanes With CF6-80C2A5F Engines Is Not Applicable

(3) The DPV pressure switch check per paragraph 2.F. is not applicable to Airbus airplanes with CF6-80C2A5F left-hand and right-hand fan reverser halves (model ES-CF6-5), because this check is performed through the full authority digital electronic control fault detection system.

Repetitive Inspections for CF6-80C2A Series Turbofan Engines

(j) For CF6-80C2A series turbofan engines, perform repetitive thrust reverser inspections using Section 2, Accomplishment Instructions, of MRAS ASB No. CF6-80C2A1/A2/A3/A5/A8/A5F S/B 78A1015, Revision 7, dated August 30, 2007, at the following:

(1) On Airbus A300 and A310 series airplanes with left-hand and right-hand reverser halves that do not have the double/backup P-seal, introduced by MRAS SB No. CF6-80C2 S/B 78A1005, and that do not have LAAs installed, within every 600 hours TSLI.

(2) On Airbus A300 and A310 series airplanes with left-hand and right-hand reverser halves that have the double/backup P-seal, introduced by MRAS SB No. CF6-80C2 S/B 78A1015, or that have LAAs installed, within every 7,000 hours TSLI.

Engines That Fail an Inspection or Check

(k) On engines that fail an inspection or check required by this AD, perform corrective actions or deactivate the fan reverser per Section 2, Accomplishment Instructions, of the applicable MRAS ASB, before further flight.

Previous Credit

(l) Initial and repetitive inspections and checks of the thrust reverser actuation systems done before the effective date of this AD that use the following ASBs, comply with the requirements specified in this AD:

(1) MRAS ASB No. CF6-50 S/B 78A-3001, Revision 2, dated December 18, 1997; and MRAS ASB No. CF6-50 S/B 78A-3001, Revision 3, dated May 3, 2006.

(2) MRAS ASB No. CF6-80A1/A3 S/B 78A-1002, Revision 3, dated January 21, 1999; and MRAS ASB No. CF6-80A1/A3 S/B 78A-1002, Revision 4, dated May 3, 2006.

(3) MRAS ASB No. CF6-80C2 S/B 78A1015, Revision 5, dated January 21, 1999; and MRAS ASB No. CF6-80C2A1/A2/A3/A5/A8/A5F S/B 78A1015, Revision 6, dated May 3, 2006.

Alternative Methods of Compliance

(m) The Manager, Engine Certification Office, FAA, has the authority to approve alternative methods of compliance for this AD if requested using the procedures found in 14 CFR 39.19.

Related Information

(n) France AD 1999-422- IMP(B), dated October 20, 1999, also addresses the subject of this AD.

(o) Contact Robert Green, Aerospace Engineer, Engine Certification Office, FAA, Engine and Propeller Directorate, 12 New England Executive Park, Burlington, MA 01803; e-mail: Robert.green@faa.gov; telephone (781) 238-7754; fax (781) 238-7199, for more information about this AD.

Issued in Burlington, Massachusetts, on October 18, 2007.
Francis A. Favara,
Manager, Engine and Propeller Directorate, Aircraft Certification Service.

[FR Doc. E7-21000 Filed 10-24-07; 8:45 am]

BILLING CODE 4910-13-P